DEPARTMENT OF ENERGY

Federal Energy Regulatory Commission

Combined Notice of Filings #2

Take notice that the Commission received the following electric rate filings:

Docket Numbers: ER01-1305-019.

Applicants: Westar Generating, Inc.

Description: Westar Generating, Inc. Informational Refund Filing.

Filed Date: 6/11/12.

Accession Number: 20120611-5185.

Comments Due: 5 p.m. ET 7/2/12.

Docket Numbers: ER10-2895-003; ER11-2292-002; ER11-3942-001; ER11-2293-002; ER10-2917-003; ER11-2294-002; ER10-2918-004; ER10-2920-003; ER11-3941-001; ER10-2921-003; ER10-2922-003; ER10-3048-001; ER10-2966-003.

Applicants: Bear Swamp Power Company LLC, Brookfield Energy Marketing Inc., Brookfield Energy Marketing LP, Brookfield Energy Marketing US LLC, Brookfield Power Piney & Deep Creek LLC, Brookfield Renewable Energy Marketing US LLC, Carr Street Generating Station, L.P., Erie Boulevard Hydropower, L.P., Granite Reliable Power, LLC, Great Lakes Hydro America LLC, Hawks Nest Hydro LLC, Longview Fibre Paper and Packaging, Inc., Rumford Falls Hydro LLC.

Description: Supplement to Notice of Non-Material Change in Status of Bear Swamp Power Company LLC, et al.

Filed Date: 5/30/12.

Accession Number: 20120530-5236.

Comments Due: 5 p.m. ET 6/20/12.

Docket Numbers: ER12-1996-000.

Applicants: ISO New England Inc.

Description: Conforming Tariff Records Filing to be effective 6/1/2012.

Filed Date: 6/12/12.

Accession Number: 20120612-5044.

Comments Due: 5 p.m. ET 7/3/12.

Docket Numbers: ER12-1997-000.

Applicants: South Jersey Energy ISO1, LLC.

Description: Initial Market-Based Rate Schedule to be effective 7/1/2012.

Filed Date: 6/12/12.

Accession Number: 20120612-5078.

Comments Due: 5 p.m. ET 7/3/12.

Docket Numbers: ER12-1998-000.

Applicants: South Jersey Energy ISO2, LLC.

Description: Initial Market-Based Rate Schedule to be effective 7/1/2012.

Filed Date: 6/12/12.

Accession Number: 20120612-5081.

Comments Due: 5 p.m. ET 7/3/12.

Docket Numbers: ER12-1999-000.

Applicants: MidAmerican Energy Company.

Description: Succession Agreement—Certificate of Concurrence to be effective 2/21/2012.

Filed Date: 6/12/12.

Accession Number: 20120612-5106.

Comments Due: 5 p.m. ET 7/3/12.

Docket Numbers: ER12-2000-000.

Applicants: Big Horn Wind Project LLC.

Description: Tariff Revisions to be effective 6/13/2012.

Filed Date: 6/12/12.

Accession Number: 20120612-5111.

Comments Due: 5 p.m. ET 7/3/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2012.
Nathaniel J. Davis, Sr.,
Deputy Secretary.

[FR Doc. 2012-15134 Filed 6-20-12; 8:45 am]

BILLING CODE 6717-01-P